DEPARTMENT OF TRANSPORTATION

Federal Railroad Administration

[Docket No. FRA-2019-0004-N-20]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA is informing the public that FRA proposes to make three minor revisions to the Quarterly Positive Train Control (PTC) Progress Report Form (Form FRA F 6180.165) and Annual PTC Progress Report Form (Form FRA F 6180.166), which the Office of Management and Budget (OMB) previously approved on September 24, 2018, under its regular processing procedures. In addition, FRA is now proposing to require host railroads operating FRA-certified PTC systems to submit a Statutory Notification of PTC System Failures (Form FRA F 6180.177) to fulfill the temporary reporting requirement under the Positive Train Control Enforcement and Implementation Act of 2015 (PTCEI Act), and FRA is proposing an alternative reporting frequency and reporting location, as the statutory mandate authorizes FRA to establish. Before submitting this revised information collection request (ICR) to OMB for regular clearance and approval, FRA is soliciting public comment on specific aspects of the proposed ICR described below.

DATES: Interested persons are invited to submit comments on or before February 28, 2020.

ADDRESSES: Submit written comments on the ICR activities by mail to either: Ms. Hodan Wells, Information Collection Clearance Officer, Office of Railroad Safety, Regulatory Analysis Division, FRA, 1200 New Jersey Avenue SE, Washington, DC 20590; or Ms. Kim Toone, Information Collection Clearance Officer, Office of Information Technology, FRA, 1200 New Jersey Avenue SE, Washington, DC 20590. Commenters requesting FRA to acknowledge receipt of their respective comments must include a self-addressed stamped postcard stating, “Comments on OMB Control Number 2130-0553,” and should also include the title of the ICR. Alternatively, comments may be emailed to Ms. Wells at hodan.wells@dot.gov, or Ms. Toone at kim.toone@dot.gov. Please refer to the assigned OMB control number in any correspondence submitted. FRA will summarize comments received in response to this notice in a subsequent notice and include them in its information collection submission to OMB for approval.

FOR FURTHER INFORMATION CONTACT: Ms. Hodan Wells, Information Collection Clearance Officer, Office of Railroad Safety, Regulatory Analysis Division, FRA, 1200 New Jersey Avenue SE, Washington, DC 20590 (telephone: (202) 493-0440); or Ms. Kim Toone, Information Collection Clearance Officer, Office of Information Technology, FRA, 1200 New Jersey Avenue SE, Washington, DC 20590 (telephone: (202) 493-6132).

SUPPLEMENTARY INFORMATION:

I. Public Comment Under the PRA

The PRA, 44 U.S.C. 3501-3520, and its implementing regulations, 5 CFR part 1320, require Federal agencies to provide 60-days' notice to the public to allow comment on information collection activities before seeking OMB approval of the activities. See 44 U.S.C. 3506, 3507; 5 CFR 1320.8-1320.12.

Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, FRA reasons that comments received will advance three objectives: (1) Reduce reporting burdens; (2) organize information collection requirements in a “user-friendly” format to improve the use of such information; and (3) accurately assess the resources expended to retrieve and produce information requested. See 44 U.S.C. 3501.

II. Background on the Quarterly and Annual PTC Progress-Related Reporting Requirements

Under the PTCEI Act, each railroad subject to 49 U.S.C. 20157(a) must submit an annual progress report to FRA by March 31, 2016, and annually thereafter, until it has fully implemented an FRA-certified and interoperable PTC system. 49 U.S.C. 20157(c)(1). The PTCEI Act specifically requires each railroad to provide certain information in the annual reports regarding its progress toward implementing a PTC system, in addition to any other information FRA requests. See id. Further, 49 U.S.C. 20157(c)(2) requires FRA to conduct compliance reviews at least annually to ensure each railroad is complying with its revised PTC Implementation Plan (PTCIP), including any FRA-approved amendments. The PTCEI Act requires railroads to provide information to FRA that FRA determines is necessary to adequately conduct such compliance reviews. 49 U.S.C. 20157(c)(2).

Accordingly, under its statutory and regulatory authority, FRA currently requires, and seeks to continue requiring, each subject railroad to submit Quarterly PTC Progress Reports (Form FRA F 6180.165) and Annual PTC Progress Reports (Form FRA F 6180.166), until the railroad finishes fully implementing an FRA-certified and interoperable PTC system on its required main lines. See 49 U.S.C. 20157(c)(1)-(2); see also 49 CFR 236.1009(h). Each subject railroad must submit these quarterly reports by the due dates in the following table: ¹

¹ As stated on the cover page of the Quarterly PTC Progress Report (Form FRA F 6180.165), “A railroad must submit quarterly reports until a PTC system is fully implemented on all required main lines under 49 U.S.C. 20157 and 49 CFR part 236, subpart I, including a quarterly report for the quarter in which the railroad completes full PTC system implementation.” See 49 U.S.C. 20157(c)(2).

| Coverage period | Due dates for quarterly PTC progress reports
Q1 | January 1-March 31 | April 30.
Q2 | April 1-June 30 | July 31.
Q3 | July 1-September 30 | October 31.
Q4 | October 1-December 31 | January 31.

Each applicable railroad must submit its Quarterly PTC Progress Reports on Form FRA F 6180.165 and its Annual PTC Progress Reports on Form FRA F 6180.166 on FRA's Secure Information Repository at https://sir.fra.dot.gov. By law, only 35 railroads ² (including 32 host railroads and 3 tenant-only commuter railroads) are currently required to submit Quarterly PTC Progress Reports (Form FRA F 6180.165) and Annual PTC Progress Reports (Form FRA F 6180.166).

² Currently, 42 railroads are directly subject to the statutory mandate to implement a PTC system. However, only 35 railroads are currently subject to these progress-related reporting requirements, given that by law, such reporting requirements no longer apply to the 4 host railroads that fully implemented PTC systems as of December 31, 2018, and 3 other tenant-only commuter railroads that fully implemented their PTC systems to date.

III. Proposed Revisions to the Quarterly and Annual PTC Progress Report Forms

On September 24, 2018, OMB approved the Quarterly PTC Progress Report (Form FRA F 6180.165) and Annual PTC Progress Report (Form FRA F 6180.166) for a period of 18 months, expiring on March 31, 2020. The current Quarterly PTC Progress Report Form and Annual PTC Progress Report Form, as approved through March 31, 2020, can be accessed and downloaded in FRA's eLibrary at: https://www.fra.dot.gov/eLib/details/L17365 and https://www.fra.dot.gov/eLib/details/L17366, respectively. These versions of the forms took into account prior comments from the Association of American Railroads (AAR) on behalf of itself and its member railroads; the American Public Transportation Association on behalf of the Northeast Illinois Commuter Rail System (Metra), the Utah Transit Authority, the Tri-County Metropolitan Transportation District of Oregon, and the Fort Worth Transportation Authority; and industry stakeholders during FRA's public meeting on April 19, 2016. FRA published minutes from the public meeting on www.regulations.gov under Docket No. FRA 2016-0002-N-17.³

³ For a summary of past oral and written comments and FRA's responses to the comments, please see 81 FR 28140 (May 9, 2016); 81 FR 65702 (Sept. 23, 2016); and 83 FR 39152 (Aug. 8, 2018).

Following the 60-day public comment period after this notice is published, FRA will request OMB's re-approval of the forms, with the three changes described below. First, per the industry's and OMB's previous recommendations, FRA has considered ways in which it can phase out certain requirements of the Quarterly PTC Progress Report (Form FRA F 6180.165) and Annual PTC Progress Report (Form FRA F 6180.166), while railroads continue to fully implement their PTC systems on the required main lines.

Although many of the specific reporting requirements are statutorily required under 49 U.S.C. 20157(c)(1)(A)-(G), FRA is amenable to making certain sections of both forms optional for most railroads, at this stage. Specifically, FRA is proposing to make the following sections of both the Quarterly PTC Progress Report (Form FRA F 6180.165) and Annual PTC Progress Report (Form FRA F 6180.166) optional for most railroads: Section 2 (“Update on Spectrum”); Section 3.1 (“Locomotive Status”), except the software-related narrative section; and Section 3.3 (“Infrastructure/Wayside Status”).

FRA proposes that those sections would be optional for any railroad that previously demonstrated to FRA it had finished acquiring all necessary spectrum and installing all PTC system hardware for the implementation of its PTC system, consistent with the governing FRA-approved PTCIP. This would encompass nearly all railroads subject to the statutory mandate that are still in the process of fully implementing their PTC systems—including the railroads currently field testing their PTC systems, conducting revenue service demonstration (RSD) or expanding RSD to additional main lines, and conducting interoperability testing with their PTC-required tenant railroads—given that railroads generally needed to finish acquiring spectrum and installing PTC system hardware by December 31, 2018, to qualify for and obtain FRA's approval of an alternative schedule and sequence by law. See 49 U.S.C. 20157(a)(3)(B).

The only railroads for which the above sections—Sections 2, 3.1, and 3.3—would remain mandatory are those railroads that are still in the spectrum acquisition or hardware installation phases, which is the case for certain railroads that, for example: (A) Commenced regularly scheduled intercity passenger or commuter rail service after December 31, 2018, and therefore did not need to qualify for or obtain FRA's approval of an alternative schedule; (B) are in the process of constructing new main lines subject to the statutory mandate; or (C) have one or more lines that are subject to a temporary main line track exception and must still implement a PTC system. In those three cases, FRA would still need to obtain updates regarding such railroads' progress toward acquiring all necessary spectrum and installing all necessary PTC system hardware.

Second, in Section 4 (entitled “Installation/Track Segment Progress”) of both the quarterly form and the annual form, FRA proposes adding a new option to the drop-down menus. Currently, the options include only: “Not Started,” “Installing,” “Field Testing,” “Revenue Service Demonstration,” and “Operational/Complete.” Given that some railroads are beyond the installation phase, but not yet at the field testing phase on multiple track segments, FRA proposes to add a new option to the drop-down menu, specifically labeled, “Pre-field Testing.” That way, such railroads will not need to select “Installing” or “Field Testing,” neither of which would accurately represent the actual status of a railroad's specific track segment. This minor revision to the forms will help ensure clearer and more accurate reporting, without imposing an additional reporting burden. For consistency with Section 4, FRA also proposes to update the corresponding drop-down menu in Section 6 (entitled “Update on Interoperability Progress”) of both forms to include the same options: “Not Started,” “Installing,” “Pre-field Testing,” “Field Testing,” “Revenue Service Demonstration,” ⁴ and “Operational/Complete.”

⁴ Previously, the relevant part of the drop-down menu allowed a host railroad to indicate only that a tenant railroad was generally conducting “testing,” without specifying the stage of testing.

Third, in Section 6 (entitled “Update on Interoperability Progress”) of both the quarterly form and the annual form, FRA proposes revising the heading of the last column in the table to state, “Current Tenant Interoperability Status,” instead of “Current Tenant Implementation Status,” to help ensure proper interpretation. For example, at least one commuter railroad has improperly listed the status of a Class I tenant railroad's progress toward fully implementing a PTC system on the Class I railroad's own main lines (so as a host railroad), instead of the Class I railroad's status specifically as a tenant railroad on that commuter railroad's required main lines. FRA expects that this minor revision might make this heading clearer.

Railroads' submission of Quarterly PTC Progress Reports (Form FRA F 6180.165) and Annual PTC Progress Reports (Form FRA F 6180.166)—consistent with the reporting requirements under the PTCEI Act—enables FRA to effectively monitor railroads' progress toward fully implementing FRA-certified and interoperable PTC systems on the approximately 57,855 route miles subject to the statutory mandate. Such reporting also enables FRA to identify railroad-specific and industry-wide obstacles to full PTC system implementation and to provide timely technical assistance. Moreover, this reporting framework enables FRA to provide the public and Congress with data-driven status reports on industry's progress toward implementing this mandated technology on a regular basis, which will be especially important throughout 2020, as the statutory deadline for most mandated railroads to fully implement PTC systems is December 31, 2020.

IV. Proposal for a New Mandatory Form—Statutory Notification of PTC System Failures (Form FRA F 6180.177)

Under the Early Adoption provisions in the PTCEI Act, the statutory mandate explicitly recognizes that certain PTC system failures (e.g., initialization failures, cut outs, and malfunctions) will occur while, and even after, railroads fully implement FRA-certified and interoperable PTC systems on the mandated main lines. See 49 U.S.C. 20157(j)(1)-(4). The PTCEI Act temporarily prohibits FRA from imposing or enforcing the operational restrictions (e.g., speed restrictions) under FRA's regulations governing signal and train control systems (specifically, 49 CFR 236.567) and FRA's PTC regulations (specifically, 49 CFR 236.1029), “provided that such carrier operates at an equivalent or greater level of safety than the level achieved immediately prior to the use or implementation of its [PTC] system.” 49 U.S.C. 20157(j)(1).

This statutory prohibition specifying that “any railroad . . . shall not be subject to the operational restrictions” under 49 CFR 236.567 or 236.1029 is in effect from October 29, 2015, to approximately December 31, 2021.⁵ See 49 U.S.C. 20157(j)(1). In addition, the PTCEI Act established a new reporting requirement that applies only during that period and only to PTC systems that FRA has certified and have been implemented, including on a subset of a railroad's mandated main lines. 49 U.S.C. 20157(j)(4). For example, acknowledging the incremental nature of implementation, the PTCEI Act required Class I railroads to demonstrate they had “implemented a [PTC] system or initiated revenue service demonstration on the majority of [PTC-mandated] territories . . . or route miles that are owned or controlled by such carrier[s],” to qualify for an alternative schedule and sequence by law. 49 U.S.C. 20157(a)(3)(B)(vi) (emphasis added).

⁵ Specifically, the PTCEI Act states that the Early Adoption period ends one year after the last Class I railroad obtains PTC System Certification from FRA and finishes fully implementing a PTC system on all of its required main lines.

As a default, the reporting requirement under 49 U.S.C. 20157(j)(4) specifies that when an FRA-certified PTC system “fails to initialize, cuts out, or malfunctions,” the railroad must submit a notification to the appropriate FRA regional office within 7 days of the system failure, and the notification must include a description of the safety measures the railroad has in place. However, the PTCEI Act also authorizes FRA to establish an alternative reporting deadline (instead of within 7 days of each occurrence) and an alternative reporting location (instead of submitting the notifications to the appropriate FRA region). See 49 U.S.C. 20157(j)(4); 49 CFR 1.89.

To be clear, FRA is authorized to establish only an alternative reporting deadline and an alternative reporting location, and the statutory mandate does not permit FRA to change either the scope of this temporary reporting requirement or the information that must be submitted. At multiple industry meetings, FRA proactively sought railroads' input regarding possible alternative reporting deadlines and locations, focusing on options that would be reasonable and consistent with the statutory reporting framework.⁶

⁶ For example, FRA solicited input about the statutory failure-related reporting requirement at FRA's first PTC symposium on June 15, 2018; two of FRA's three PTC collaboration sessions during 2019, on February 6, 2019, and October 2, 2019; and several AAR PTC Executive Committee meetings, including participation by the Class I railroads, Amtrak, Metra, the Southern California Regional Rail Authority (Metrolink), and other host railroads subject to the statutory mandate.

At the industry meetings, FRA and industry stakeholders generally reached a consensus about a reasonable alternative for a reporting location. Accordingly, FRA proposes that the Statutory Notification of PTC System Failures, under 49 U.S.C. 20157(j)(4), must be submitted to FRA's headquarters, using an electronic, web-based form, instead of notifying each applicable FRA region. Such centralized reporting would better enable FRA to aggregate and analyze the required data regarding PTC system initialization failures, cut outs, and malfunctions. FRA is currently designing and developing a web-based form for the Statutory Notification of PTC System Failures (Form FRA F 6180.177), and FRA notes that the electronic form will contain fields for the information explicitly required under 49 U.S.C. 20157(j)(4) and as described below.

With respect to the default reporting deadline under the PTCEI Act (i.e., within 7 days of each occurrence), many railroads have stressed that notifying FRA each time an FRA-certified PTC system fails to initialize, cuts out, or malfunctions would be extremely burdensome, given the frequency of such occurrences. As an example, one commuter railroad reported more than 75 instances of initialization failures, cut outs, and malfunctions, during a one-week period in October 2019. FRA proposes requiring that a railroad consolidate such information prior to submission, rather than notifying FRA within 7 days of each occurrence and submitting such data in a piecemeal manner, which could occur under the default requirement in 49 U.S.C. 20157(j)(4).

Acknowledging railroads' concerns about the burdens associated with the default reporting frequency under 49 U.S.C. 20157(j)(4), FRA proposes instead a two-tiered or bifurcated reporting deadline/frequency for this temporary reporting requirement, where the reporting frequency would depend on whether or not the host railroad has fully implemented an FRA-certified and interoperable PTC system on all its required route miles. First, if a host railroad is operating an FRA-certified PTC system but the railroad is still in the process of fully implementing the PTC system on its required main lines, FRA proposes that such railroads must submit a quarterly notification of the PTC system's initialization failures, cut outs, and malfunctions, during the ongoing implementation process. Such quarterly notifications would be due on the same dates as the Quarterly PTC Progress Reports (Form FRA F 6180.165):

| Coverage period | Due dates for quarterly notifications of PTC system failures
Q1 | January 1-March 31 | April 30.
Q2 | April 1-June 30 | July 31.
Q3 | July 1-September 30 | October 31.
Q4 | October 1-December 31 | January 31.

For example, this would mean that most host railroads that have obtained PTC System Certification to date would submit quarterly notifications until January 31, 2021, as most host railroads will be in the process of fully implementing FRA-certified and interoperable PTC systems on their mandated main lines until December 31, 2020. FRA believes that requiring host railroads to submit failure-related notifications on a quarterly basis (instead of within 7 days of each occurrence) during the implementation process is reasonable, given that such host railroads are concurrently focusing on activating their FRA-certified PTC systems on their remaining required main lines and achieving interoperability with their tenant railroads by December 31, 2020. FRA believes that receiving the failure-related data on a quarterly basis would still enable FRA to compile and analyze the data to understand and monitor the performance and reliability of PTC systems over time.

Second, once a host railroad has fully implemented its FRA-certified and interoperable PTC system on all its required main lines, FRA proposes that the host railroad must submit the Statutory Notification of PTC System Failures (Form FRA F 6180.177) monthly, instead of quarterly. This is still significantly less burdensome than the default reporting deadline under 49 U.S.C. 20157(j)(4)—i.e., within 7 days of each discrete occurrence. For example, upon FRA's receipt of OMB's approval, each of the four host railroads that fully implemented FRA-certified and interoperable PTC systems by December 31, 2018,⁷ would immediately begin submitting monthly notifications, rather than piecemeal notifications within 7 days each time its PTC system fails to initialize, cuts out, or malfunctions. FRA proposes that the due date for the monthly notification would be the 15th of the following month, so, for example, the notification regarding PTC system initialization failures, cut outs, and malfunctions during March 2020 would be due by April 15, 2020, for the subset of host railroads that have fully implemented an FRA-certified PTC system.

⁷ Metrolink, the North County Transit District, the Port Authority Trans-Hudson, and Portland & Western Railroad.

The other host railroads subject to the statutory mandate that are operating FRA-certified PTC systems but that are still in the process of fully implementing their PTC systems (e.g., 6 Class I railroads, Amtrak, and the Southeastern Pennsylvania Transportation Authority, as of November 1, 2019, and any other host railroad that obtains PTC System Certification going forward) would transition from submitting the Statutory Notifications of PTC System Failures (Form FRA F 6180.177) on a quarterly basis to a monthly basis, when they finish fully implementing their PTC systems on their required main lines. For simplicity, in general, this two-tiered reporting framework would mean that most host railroads that have obtained PTC System Certification would submit quarterly Statutory Notifications of PTC System Failures throughout 2020, and then monthly notifications throughout 2021.⁸

⁸ By law, this temporary reporting requirement under 49 U.S.C. 20157(j)(4) sunsets on approximately December 31, 2021—or more specifically, one year after the last Class I railroad obtains PTC System Certification from FRA and finishes fully implementing an FRA-certified and interoperable PTC system on all its required main lines.

As noted above, the PTCEI Act authorizes FRA to establish only an alternative reporting deadline (instead of within 7 days of each occurrence) and an alternative reporting location (instead of submitting the notifications to the appropriate FRA region). The proposed Statutory Notification of PTC System Failures (Form FRA F 6180.177) would, by necessity, contain a table in which the host railroad would identify the number of times each type of PTC system failure identified in the statutory mandate occurred during the reporting period: Any failure to initialize, any cut out, and any malfunction, as defined below. 49 U.S.C. 20157(j)(4). During FRA's industry meetings to date, railroads have requested clarification regarding the meaning and scope of these statutory terms. Given that the statutory mandate requires railroads to notify FRA any time a PTC system “fails to initialize, cuts out, or malfunctions,” FRA interprets these terms reasonably broadly and in accordance with their plain language meaning, to encompass the following, for purposes of this temporary reporting requirement:

• Failure to Initialize: Any locomotive or train that departs the initial terminal without being governed by a PTC system.

• Cut Out: Any cut out of a PTC system en route, including when the PTC system cuts out on its own or a person cuts out the system, unless the cut out was necessary to exit PTC-governed territory and enter non-PTC territory.

• Malfunction: Any failure of a PTC system, subsystem, or component that prevents, or could prevent, the PTC system from performing the functions mandated under 49 U.S.C. 20157(i)(5) and 49 CFR part 236, subpart I.

The proposed web-based form (Form FRA F 6180.177) would require host railroads to identify the number of PTC system initialization failures, cut outs, and malfunctions by state and subdivision ⁹ to enable FRA to closely monitor trends in PTC system reliability throughout the country and focus its resources, for example, on any areas where such failures are occurring at a high rate. FRA seeks comment about this proposed aspect of the information collection. Although a categorization of such information by state and subdivision is FRA's preference, FRA may modify its approach based on industry's comments submitted during the 60-day comment period. Please note, however, that absent a breakdown by state and subdivision, FRA would require host railroads to identify the number of PTC system initialization failures, cut outs, and malfunctions per FRA region,¹⁰ at a minimum. That alternative approach would retain the same minimum level of geographical information about where such PTC system failures are occurring, as explicitly required under the default reporting requirement under 49 U.S.C. 20157(j)(4).

⁹ Or any other categorization a host railroad uses in its timetables, including district, territory, main line, branch, or corridor. FRA recognizes that this specific type of information (i.e., a breakdown by state and subdivision) is not required under 49 U.S.C. 20157(j)(4), and FRA would be collecting such information under its general authority under 49 CFR 236.1009(h).

¹⁰ For a map outlining FRA's eight regions, please see: https://railroads.dot.gov/divisions/regional-offices/regional-offices.

Also, based on railroads' input at industry meetings, FRA notes that the proposed Statutory Notification of PTC System Failures (Form FRA F 6180.177) would additionally require a host railroad to list a percentage, demonstrating how the occurrences of PTC system initialization failures, cut outs, and malfunctions compare to all operations on that host railroad's PTC-governed main lines.¹¹ Several railroads have commented that, without such a percentage or context, the frequency of these failures might otherwise seem high, and a percentage would help convey the actual rate of such failures.

¹¹ FRA recognizes that this specific type of information is not required under 49 U.S.C. 20157(j)(4), and FRA would be collecting such information under its general authority under 49 CFR 236.1009(h).

In addition, at industry meetings to date, multiple railroads have expressed that FRA should not require tenant railroads to submit this failure-related information directly to FRA, but via their host railroads. Accordingly, FRA proposes that only host railroads subject to the statutory mandate (currently 36 host railroads) would submit the Statutory Notification of PTC System Failures (Form FRA F 6180.177), and these notifications would encompass both a host railroad's and its tenant railroads' PTC system initialization failures, cut outs, and malfunctions.¹² However, FRA seeks comments about how to structure this element of the web-based form in a way that would both minimize the reporting burden and distinctly represent the number of PTC system initialization failures, cut outs, and malfunctions per tenant railroad.

¹² This approach would be consistent with the existing regulatory requirement specifying that a tenant railroad must report a PTC system failure or cut out to “a designated railroad officer of the host railroad as soon as safe and practicable.” See 49 CFR 236.1029(b)(4) (emphasis added).

Finally, as noted above, 49 U.S.C. 20157(j)(4) explicitly requires a railroad to provide in the notification “a description of the safety measures the affected railroad . . . has in place,” so the table in the web-based Statutory Notification of PTC System Failures (Form FRA F 6180.177) would contain fields for a host railroad to enter such information.

V. Overview of Information Collection

FRA will submit this ICR to OMB for regular clearance as required by the PRA.

Type of Request: Revision of a currently approved information collection.

Title: Positive Train Control and Other Signal Systems (including the Quarterly Positive Train Control Progress Report, the Annual Positive Train Control Progress Report, and the Statutory Notification of Positive Train Control System Failures).¹³

¹³ FRA makes a technical correction to the title of OMB Control Number 2130-0553.

OMB Control Number: 2130-0553.

Form(s): FRA F 6180.165, FRA F 6180.166, and FRA F 6180.177.

Affected Public: Businesses.

Frequency of Submission: On occasion (depending on the specific reporting requirement).

Respondent Universe: 35 railroads ¹⁴ (including 32 host railroads and 3 tenant-only commuter railroads) for the Quarterly PTC Progress Report (Form FRA F 6180.165) and Annual PTC Progress Report (Form FRA F 6180.166); 36 host railroads for the Statutory Notification of PTC System Failures (Form FRA F 6180.177); and varies for other information collections under OMB Control No. 2130-0553, as noted in the table below.

¹⁴ Currently, 42 railroads are directly subject to the statutory mandate to implement a PTC system. However, only 35 railroads are currently subject to these progress-related reporting requirements, given that by law, such reporting requirements no longer apply to the 4 host railroads that fully implemented PTC systems as of December 31, 2018, and 3 other tenant-only commuter railroads that fully implemented their PTC systems to date.

Respondent Burden:

CFR section/subject | Respondent universe | Total annual responses | Average time per response | Total annual burden hours | Total annual dollar cost equivalent
235.6(c)—Expedited application for approval of certain changes described in this section | 42 railroads | 10 expedited applications | 5 hours | 50 | 3,800
—Copy of expedited application to labor union | 42 railroads | 10 copies | 30 minutes | 5 | 380
—Railroad letter rescinding its request for expedited application of certain signal system changes | 42 railroads | 1 letter | 6 hours | 6 | 456
—Revised application for certain signal system changes | 42 railroads | 1 application | 5 hours | 5 | 380
—Copy of railroad revised application to labor union | 42 railroads | 1 copy | 30 minutes | .5 | 38
236.1—Railroad maintained signal plans at all interlockings, automatic signal locations, and controlled points, and updates to ensure accuracy | 700 railroads | 25 plan changes | 15 minutes | 6.3 | 479
236.15—Designation of automatic block, traffic control, train stop, train control, cab signal, and PTC territory in timetable instructions | 700 railroads | 10 timetable instructions | 30 minutes | 5 | 380
236.18—Software management control plan—New railroads | 2 railroads | 2 plans | 160 hours | 320 | 24,320
236.23(e)—The names, indications, and aspects of roadway and cab signals shall be defined in the carrier's Operating Rule Book or Special Instructions. Modifications shall be filed with FRA within 30 days after such modifications become effective | 700 railroads | 2 modifications | 1 hour | 2 | 152
236.587(d)—Certification and departure test results | 742 railroads | 4,562,500 train departures | 5 seconds | 6,337 | 481,612
236.905(a)—Railroad Safety Program Plan (RSPP)—New railroads | 2 railroads | 2 RSPPs | 40 hours | 80 | 6,080
236.913(a)—Filing and approval of a joint Product Safety Plan (PSP) | 742 railroads | 1 joint plan | 2,000 hours | 2,000 | 230,000
(c)(1)—Informational filing/petition for special approval | 742 railroads | .5 filings/approval petitions | 50 hours | 25 | 1,900
(c)(2)—Response to FRA's request for further data after informational filing | 742 railroads | .25 data calls/documents | 5 hours | 1 hour | 76
(d)(1)(ii)—Response to FRA's request for further information within 15 days after receipt of the Notice of Product Development (NOPD) | 742 railroads | .25 data calls/documents | 1 hour | .25 | 19
(d)(1)(iii)—Technical consultation by FRA with the railroad on the design and planned development of the product | 742 railroads | .25 technical consultations | 5 hours | 1.3 hour | 99
(d)(1)(v)—Railroad petition to FRA for final approval of NOPD | 742 railroads | .25 petitions | 1 hour | .25 | 19
(d)(2)(ii)—Response to FRA's request for additional information associated with a petition for approval of PSP or PSP amendment | 742 railroads | 1 request | 50 hours | 50 | 3,800
(e)—Comments to FRA on railroad informational filing or special approval petition | 742 railroads | .5 comments/letters | 10 hours | 5 | 380
(h)(3)(i)—Railroad amendment to PSP | 742 railroads | 2 amendments | 20 hours | 40 | 3,040
(j)—Railroad field testing/information filing document | 742 railroads | 1 field test document | 100 hours | 100 | 7,600
236.917(a)—Railroad retention of records: results of tests and inspections specified in the PSP | 13 railroads with PSP | 13 PSP safety results | 160 hours | 2,080 | 158,080
(b)—Railroad report that frequency of safety-relevant hazards exceeds threshold set forth in PSP | 13 railroads | 1 report | 40 hours | 40 | 3,040
(b)(3)—Railroad final report to FRA on the results of the analysis and countermeasures taken to reduce the frequency of safety-relevant hazards | 13 railroads | 1 report | 10 hours | 10 | 760
236.919(a)—Railroad Operations and Maintenance Manual (OMM) | 13 railroads | 1 OMM update | 40 hours | 40 | 3,040
(b)—Plans for proper maintenance, repair, inspection, and testing of safety-critical products | 13 railroads | 1 plan update | 40 hours | 40 | 3,040
(c)—Documented hardware, software, and firmware revisions in OMM | 13 railroads | 1 revision | 40 hours | 40 | 3,040
236.921 and 923(a)—Railroad Training and Qualification Program | 13 railroads | 1 program | 40 hours | 40 | 3,040
236.923(b)—Training records retained in a designated location and available to FRA upon request | 13 railroads | 350 records | 10 minutes | 58 | 4,408
Form FRA F 6180.165—Quarterly PTC Progress Report Form (49 U.S.C. 20157(c)(2)) | 35 railroads | 140 reports/forms | 23.22 hours | 3,251 | 247,076
Form FRA F 6180.166—Annual PTC Progress Report Form (49 U.S.C. 20157(c)(1) and 49 CFR 236.1009(a)(5)) | 35 railroads | 35 reports/forms | 40.12 hours | 1,404 | 106,704
Form FRA F 6180.177—Statutory Notification of PTC System Failures (*New Form* Under 49 U.S.C. 20157(j)(4)) | 36 railroads | 190 reports/forms | 1 hour | 190 | 14,440
236.1001(b)—A railroad's additional or more stringent rules than prescribed under 49 CFR part 236, subpart I | 36 railroads | 1 rule or instruction | 40 hours | 40 | 4,600
236.1005(b)(4)(iii)—A railroad's request for a de minimis exception, in a PTCIP or an RFA, based on a minimal quantity of PIH materials traffic | 7 Class I railroads | 1 exception request | 40 hours | 40 | 3,040
(g)(1)(i)—A railroad's request to temporarily reroute trains not equipped with a PTC system onto PTC-equipped tracks and vice versa during certain emergencies | 36 railroads | 45 rerouting extension requests | 8 hours | 360 | 27,360
(g)(1)(ii)—A railroad's written or telephonic notice to the applicable FRA Regional Administrator of the conditions necessitating emergency rerouting and other required information under 236.1005(i) | 36 railroads | 45 written or telephonic notices | 2 hours | 90 | 6,840
(g)(2)—A railroad's temporary rerouting request due to planned maintenance not exceeding 30 days | 36 railroads | 720 requests | 8 hours | 5,760 | 437,760
(h)(1)—A response to any request for additional information from the FRA Regional Administrator or Associate Administrator, prior to commencing rerouting due to planned maintenance | 36 railroads | 10 requests | 2 hours | 20 | 1,520
(h)(2)—A railroad's request to temporarily reroute trains due to planned maintenance exceeding 30 days | 36 railroads | 160 requests | 8 hours | 1,280 | 97,280
236.1006(b)(4)(iii)(B)—A progress report due by December 31, 2020, and by December 31, 2022, from any Class II or III railroad utilizing a temporary exception under this section | 36 railroads | 5 reports | 16 hours | 80 | 6,080
236.1007(c)—An HSR-125 document accompanying a host railroad's PTCSP, for operations over 125 mph | 36 railroads | 1 HSR-125 document | 3,200 hours | 3,200 | 368,000
(c)(1)—A railroad's request for approval to use foreign service data, prior to submission of a PTCSP | 36 railroads | 1 request | 8,000 hours | 8,000 | 608,000
(d) (formerly (e))—A railroad's request in a PTCSP that FRA excuse compliance with one or more of this section's requirements | 36 railroads | 1 request | 1,000 hours | 1,000 | 115,000
236.1009(a)(2)—A PTCIP if a railroad becomes a host railroad of a main line requiring the implementation of a PTC system, including the information under 49 U.S.C. 20157(a)(2) and 49 CFR 236.1011 | 264 railroads | 1 PTCIP | 535 hours | 535 | 61,525
(a)(3)—Any new PTCIPs jointly filed by a host railroad and a tenant railroad | 264 railroads | 1 joint PTCIP | 267 hours | 267 | 30,705
(b)(1)—A host railroad's submission, individually or jointly with a tenant railroad or PTC system supplier, of an unmodified Type Approval | 264 railroads | 1 document | 8 hours | 8 | 608
(b)(2)—A host railroad's submission of a PTC Development Plan (PTCDP) with the information required under 49 CFR 236.1013, requesting a Type Approval for a PTC system that either does not have a Type Approval or has a Type Approval that requires one or more variances | 264 railroads | 1 PTCDP | 2,000 hours | 2,000 | 152,000
(e)(3)—Any request for full or partial confidentiality of a PTCIP, Notice of Product Intent (NPI), PTCDP, or PTCSP | 42 railroads | 10 confidentiality requests | 8 hours | 80 | 6,080
(h)—Any responses or documents submitted in connection with FRA's use of its authority to monitor, test, and inspect processes, procedures, facilities, documents, records, design and testing materials, artifacts, training materials and programs, and any other information used in the design, development, manufacture, test, implementation, and operation of the PTC system, including interviews with railroad personnel | 36 railroads | 36 interviews and documents | 4 hours | 144 | 10,944
(j)(2)(iii)—Any additional information provided in response to FRA's consultations or inquiries about a PTCDP or PTCSP | 36 railroads | 20 documents | 400 hours | 8,000 | 608,000
236.1011(e)—Any public comment on PTCIPs, NPIs, PTCDPs, and PTCSPs | 36 railroads | 2 public comments | 8 hours | 16 | 1,216
236.1015—Any new host railroad's PTCSP meeting all content requirements under 49 CFR 236.1015 | 264 railroads | 1 PTCSP | 8,000 hours | 8,000 | 608,000
(g)—A PTCSP for a PTC system replacing an existing certified PTC system | 36 railroads | 1 PTCSP | 3,200 hours | 3,200 | 243,200
(h)—A quantitative risk assessment, if FRA requires one to be submitted | 36 railroads | 1 assessment | 3,200 hours | 3,200 | 243,200
236.1017(a)—An independent third-party assessment, if FRA requires one to be conducted and submitted | 21 railroads | 1 assessment | 1,600 hours | 1,600 | 184,000
(b)—A railroad's written request to confirm whether a specific entity qualifies as an independent third party | 21 railroads | 1 written request | 8 hours | 8 | 608
—Further information provided to FRA upon request | 21 railroads | 1 set of additional information | 20 hours | 20 | 1,520
(d)—A request not to provide certain documents otherwise required under Appendix F for an independent, third-party assessment | 21 railroads | 1 request | 20 hours | 20 | 1,520
(e)—A request for FRA to accept information certified by a foreign regulatory entity for purposes of 49 CFR 236.1017 and/or 236.1009(i) | 21 railroads | 1 request | 32 hours | 32 | 2,432
236.1019(b)—A request for a passenger terminal main line track exception (MTEA) | 37 railroads | 1 MTEA | 160 hours | 160 | 12,160
(c)(1)—A request for a limited operations exception (based on restricted speed, temporal separation, or a risk mitigation plan) | 37 railroads | 1 request and/or plan | 160 hours | 160 | 12,160
236.1021(a)-(d)—Any request for amendment (RFA) to a railroad's PTCIP, PTCDP, and/or PTCSP | 36 railroads | 10 RFAs | 160 hours | 1,600 | 121,600
(e)—Any public comments, if an RFA includes a request for approval of a discontinuance or material modification of a signal or train control system and a Federal Register notice is published | 5 interested parties | 10 RFA public comments | 16 hours | 160 | 12,160
236.1023(a)—A railroad's PTC Product Vendor List, which must be continually updated | 36 railroads | 2 updated lists | 8 hours | 16 | 1,216
(b)(2)-(3)—A vendor's or supplier's notification, upon receipt of a report of any safety-critical failure of its product, to any railroads using the product | 10 vendors | .5 notifications | 8 hours | 4 | 304
(d)—A railroad's submission, to the applicable vendor or supplier, of the railroad's procedures for action upon notification of a safety-critical failure, upgrade, patch, or revision to the PTC system and actions to be taken until it is adjusted, repaired, or replaced | 36 railroads | 2.5 notifications | 16 hours | 40 | 3,040
(e)—A railroad's database of all safety-relevant hazards, which must be maintained after the PTC system is placed in service | 36 railroads | 36 database updates | 16 hours | 576 | 43,776
(e)(1)—A railroad's notification to the vendor or supplier and FRA if the frequency of a safety-relevant hazard exceeds the threshold set forth in the PTCDP and PTCSP, and about the failure, malfunction, or defective condition that decreased or eliminated the safety functionality | 36 railroads | .5 notifications | 8 hours | 4 | 304
(e)(2)—Continual updates about any and all subsequent failures | 36 railroads | .5 updates | 8 hours | 4 | 304
(g)—A railroad's and vendor's or supplier's report, upon FRA request, about an investigation of an accident or service difficulty due to a manufacturing or design defect and their corrective actions | 36 railroads | .5 reports | 40 hours | 20 | 1,520
(h)—A PTC system vendor's or supplier's reports of any safety-relevant failures, defective conditions, previously unidentified hazards, recommended mitigation actions, and any affected railroads | 10 vendors | .5 reports | 8 hours | 4 | 304
236.1029(b)(4)—A report of an en route failure, other failure, or cut out to a designated railroad officer of the host railroad | 36 railroads | 1,000 reports | 30 minutes | 500 | 38,000
(h)—An annual report of PTC system failures due April 16th each year after a railroad's applicable deadline for full PTC system implementation | 36 railroads | 36 reports | 8 hours | 288 | 21,888
236.1031(a)-(d)—A railroad's Request for Expedited Certification (REC) | 36 railroads | 1 REC letter + supporting documentation | 8 hours | 8 | 608
236.1035(a)-(b)—A railroad's request for authorization to field test an uncertified PTC system and any responses to FRA's testing conditions | 36 railroads | 10 requests | 40 hours | 400 | 30,400
236.1037(b)—Results of inspections and tests specified in a railroad's PTCSP and PTCDP | 36 railroads | 800 records | 1 hour | 800 | 60,800
(c)—A contractor's records related to the testing, maintenance, or operation of a PTC system maintained at a designated office | 36 railroads | 1,600 records | 10 minutes | 267 | 20,292
(d)(3)—A railroad's final report of the results of the analysis and countermeasures taken to reduce the frequency of safety-related hazards below the threshold set forth in the PTCSP | 36 railroads | .5 final reports | 160 hours | 80 | 6,080
236.1039(a)-(c), (e)—A railroad's PTC Operations and Maintenance Manual (OMM), which must be maintained and available to FRA upon request | 36 railroads | 2 OMM updates | 10 hours | 20 | 1,520
(d)—A railroad's identification of a PTC system's safety-critical components, including spare equipment | 36 railroads | 1 identified new component | 1 hour | 1 | 76
236.1041(a)-(b) and 236.1043(a)—A railroad's PTC Training and Qualification Program (i.e., a written plan) | 36 railroads | 2 programs | 10 hours | 20 | 1,520
236.1043(b)—Training records retained in a designated location and available to FRA upon request | 36 railroads | 500 PTC training records | 1 minute | 8 | 608
Total | N/A | 4,568,393 responses | N/A | 68,373 | 5,533,356

Total Estimated Annual Responses: 4,568,393.

Total Estimated Annual Burden: 68,373 hours.

Total Estimated Annual Burden Hour Dollar Cost Equivalent: 5,533,356.15.15 16

¹⁵ The dollar equivalent cost is derived from the Surface Transportation Board's Full Year Wage A&B data series using the appropriate employee group hourly wage rate that includes a 75-percent overhead charge.

¹⁶ Form FRA F 6180.177: This temporary reporting requirement would expire by law on approximately December 31, 2021, as further explained in Section IV of this notice. See 49 U.S.C. 20157(j).

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520; 49 U.S.C. 20157.

Brett A. Jortland,
Acting Chief Counsel.

[FR Doc. 2019-28096 Filed 12-27-19; 8:45 am]

BILLING CODE 4910-06-P